DEPARTMENT OF JUSTICE

Antitrust Division

Notice Pursuant to the National Cooperative Research and Production Act of 1993—VSI Alliance

Notice is hereby given that, on July 13, 2000, pursuant to Section 6(a) of the National Cooperative Research and Production Act of 1993, 15 U.S.C. § 4301 et seq. (“the Act”), VSI Alliance has filed written notifications simultaneously with the Attorney General and the Federal Trade Commission disclosing changes in its membership status. The notifications were filed for the purpose of extending the Act's provisions limiting the recovery of antitrust plantiffs to actual damages under specified circumstances. Specifically, Alcatel Internetworking (PE), Inc., Spokane, WA; Artec Design Group, Tallinn, Estonia; Ben Cheese Electronic Design, Royston, United Kingdom; Chip Implementation Center, Hsin-Chu, Taiwan; Johan Cockx (individual member), Leuven, Belgium; Dr. Peter Green (individual member), Manchester, United Kingdom; Innoveda Ltd., Herzliyya, Israel; Lavetate Design Systems, Inc., Beaverton, OR; Malardalen University, Vasteras, Sweden; Pixelfusion Ltd., Bristol, Avon, United Kingdom; Siroyan Limited, Reading, England, United Kingdom; Socip Group of Korea, Seoul, Republic of Korea; Thomson Multimedia, Villingen-Schwennigen, Germany; and TriMedia Technologies, Sunnyvale, CA have been added as parties to this venture. Also, Actel Corporation, Sunnyvale, CA; Escalade, Santa Plano, TX; NetLogic Microsystems, Inc., Mountain View, CA; SandCraft, Inc., Santa Clara, CA; Scottish Enterprise, Livingston, Scotland, United Kingdom; and VAutomation, Inc., Nashua, NH have been dropped as parties to this venture.

No other changes have been made in either the membership or planned activity of the group research project. Membership in this group research project remains open, and VSI Alliance intends to file additional written notification disclosing all changes in membership.

On November 29, 1996, VSI Alliance filed its original notification pursuant to Section 6(a) of the Act. The Department of Justice published a notice in the Federal Register pursuant to Section 6(b) of the Act on March 4, 1997 (62 FR 9812).

The last notification was filed with the Department on April 18, 2000. A notice was published in the Federal Register pursuant to Section 6(b) of the Act on June 30, 2000 (65 FR 40694).

Constance K. Robinson,
Director of Operations, Antitrust Division.

[FR Doc. 00-25306 Filed 10-2-00; 8:45 am]

BILLING CODE 4410-11-M